DEPARTMENT OF TRANSPORTATION

Pipeline and Hazardous Materials Safety Administration

Actions on Special Permit Applications

AGENCY: Pipeline And Hazardous Materials Safety Administration (PHMSA), DOT.

ACTION: Notice of actions on Special Permit Applications.

SUMMARY: In accordance with the procedures governing the application for, and the processing of, special permits from the Department of Transportation's Hazardous Material Regulations (49 CFR part 107, subpart B), notice is hereby given of the actions on special permits applications in (April to April 2013). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued In Washington, DC, on May 15, 2013.
Donald Burger,
Chief, Special Permits and Approvals Branch.

S.P. No. | Applicant | Regulation(s) | Nature of special permit thereof
Modification Special Permit Granted
12531-M | Worthington Cylinder Corporation, Columbus, OH | 49 CFR 173.302(a), 173.304(a), 173.304(d), 178.61(b), 178.61(f), 178.61(g), 178.61(i) and 178.61(k) | To modify the special permit to authorize a Class 8 packaging group I material.
New Special Permit Granted
15650-N | JL Shepherd & Associates, San Fernando, CA | 49 CFR 173.416 | To authorize the continued transportation in commerce of certain DOT Specification 20WC radioactive material packagings after October 1, 2008. (mode 1).
15723-N | Entegris Chaska, MN | 49 CFR 173.212; 173.213; 173.240; 173.241; 176.83 | To authorize the transportation in commerce of Division 4.1 and 4.2 material in non-specification packaging. (modes 1, 2, 3, 4).
15725-N | Toray Composites (America), Tacoma, WA | 49 CFR 173.225 | To authorize the one-time one-way transportation of organic peroxides in packaging not authorized by the competent authority approval. (mode 1).
15820-N | Korean Air, Arlington, VA | 49 CFR 172.101 Column (9B), 172.204(c)(3), 173.27, and 175.30(a)(1) | To authorize the one-time transportation in commerce of certain explosives that are forbidden for transportation by cargo only aircraft. (mode 4).
Emergency Special Permit Granted
15797-N | Veolia ES Technical Solutions, L.L.C., Flanders, NJ | 49 CFR 172.320 and 173.56(b) | To authorize the transportation of certain unapproved airbag modules by motor vehicle for disposal. (mode 1).
Modification Special Permit Withdrawn
14562-M | The Lite Cylinder Company, Franklin, TN | 49 CFR 173.304 a(a)(1) | To modify the special permit to authorize larger cylinders.
New Special Permit Withdrawn
15842-N | Department of Defense, Scotts AFB, IL | 49 CFR 173.62 | To authorize the transportation in commerce of Rockets, UN0181 in alternative packaging (modes 1, 2, 3, 4).

Denied

10964-M Request by Kidde Aerospace & Defense Wilson, NC April 04, 2013. To modify the permit to authorize a rework procedure to allow fire extinguishers which were “steel stamped” to e returned to within original specifications.

15746-N Request by Siex Burgos, Spain, April 25, 2013. To authorize the transportation in commerce of Division 2.2 gases in cylinders manufactured according to the European Directive for Transportable Pressure Vessels.

15834-N Request by Multistar Ind., Inc. Othello, WA April 01, 2013. To authorize the transportation in commerce of certain portable tanks and cargo tanks containing anhydrous ammonia that do not have manufacturer's data reports required by 49 CFR 180.605(1).

15821-N Request by Circor Instrumentation Technologies dba, Hoke Incorporated Spartanburg, SC April 26, 2013. To authorize the manufacture, marking, sale and use of non-DOT specification cylinders manufactured from Hastelloy C-276 (ASTM B622) material.

[FR Doc. 2013-12005 Filed 5-21-13; 8:45 am]

BILLING CODE 4909-60-M